DEPARTMENT OF HEALTH AND HUMAN SERVICES

[Document Identifier: OS-0990-; 30-day notice]

Agency Information Collection Request; 30-Day Public Comment Request

AGENCY: Office of the Secretary, HHS.

Agency Information Collection Request; 30-Day Public Comment Request

In compliance with the requirement of section 3506(c)(2)(A) of the Paperwork Reduction Act of 1995, the Office of the Secretary (OS), Department of Health and Human Services, is publishing the following summary of a proposed collection for public comment. Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

To obtain copies of the supporting statement and any related forms for the proposed paperwork collections referenced above, e-mail your request, including your address, phone number, OMB number, and OS document identifier, to Sherette.funncoleman@hhs.gov, or call the Reports Clearance Office on (202) 690-5683. Send written comments and recommendations for the proposed information collections within 30 days of this notice directly to the OS OMB Desk Officer; faxed to OMB at 202-395-5806.

Proposed Project: Evaluation of the Parents Speak Up National Campaign (PSUNC): Focus Groups with Adolescents. OMB No. 0990—NEW—Office of the Secretary/Office of Public Health and Science/Office Adolescent Pregnancy Programs.

Abstract: The data collection will take place once, over a three-day period, in early 2010. An estimated 2000 adults will be screened to identify parents who are willing for their child to participate in the study and whose child is eligible. Screening will take an estimated 3 minutes, on average. Study participants will total 160 adolescents ages 13-15. Participation in the study will take an estimated 2 hours on average; including time spent responding to a mini-questionnaire and participating in a bulletin board focus group. Participants will self-administer the mini-questionnaire at home on personal computers and will also participate in the focus group online. The specific aim of this study is to assess qualitatively what kinds of information about sex adolescents want to hear from their parents and their perspectives on the factors that either hinder or facilitate effective communication.

Estimated Annualized Burden Table
Forms (if necessary) | Type of respondent | Number of respondents | Number of responses per respondent | Average burden hours per response | Total burden hours
Screener | Adults | 2,000 | 1 | 3/60 | 100
Focus group discussion guide and mini-questionnaire | Adolescents ages 13-15 | 160 | 1 | 2 | 320
Total |  | 2,160 |  |  | 420

Seleda M. Perryman,
Office of the Secretary, Paperwork Reduction Act Reports Clearance Officer.

[FR Doc. 2010-3982 Filed 2-25-10; 8:45 am]

BILLING CODE 4150-30-P